Title 3—

The President

Proclamation 9464 of June 17, 2016

Father's Day, 2016

By the President of the United States of America

A Proclamation

Blessed with the extraordinary privilege and remarkable responsibility of fatherhood, dads play vital roles in our lives—inspiring us to reach for our highest potential, lifting us up when we need it most, and helping us become the people we were meant to be. Doing right by our families is the most important job any of us will ever have. On Father's Day, we thank the wonderful fathers—and stepfathers, grandfathers, uncles, brothers, and mentors—in our lives, and we recognize the sacrifices they make to be there for us, through good times and bad.

Fathers provide the discipline, guidance, and love it takes to flourish. With persistence and patience, generosity and integrity, they build our cores and help us understand right from wrong. They are some of our earliest and strongest sources of support and encouragement, and they serve as role models and sounding boards in our youth and as we grow. From single fathers who struggle to make ends meet to surrogates who step up to be there for America's daughters and sons, these men help shoulder the greatest obligation that exists—raising the next generation. Regardless of sexual orientation, gender identity, or marital status; whether biological, foster, or adoptive; fathers teach their children the values that matter most and steer their moral compasses.

My Administration is dedicated to enacting policies that make it easier for working fathers to support their families, including paid family leave. We must promote responsible fatherhood by lifting up the fathers who do their part to be the parents and providers their children need and by rejecting any excuse for failing to meet this obligation. Too many Americans grow up without a father figure in their lives, and it is imperative that America's responsible men step up to be mentors for our young people in need of guidance. To learn more, visit www.Fatherhood.gov or www.Mentor.gov.

Being a father is about more than just having children—it is about summoning the courage to love and support them over anything else. We must always strive to be the best parents and role models we can be and commit to being present in the lives of our kids. Nothing is more precious than the moments we get to spend with our families—in conversations at the dinner table, coaching tips shouted from the sidelines, or profound experiences of learning and growing and teaching. Today, let us express our gratitude for the men who have enriched our lives and shaped our characters, and let us never stop working to show them how much they are valued and loved.

NOW, THEREFORE, I, BARACK OBAMA, President of the United States of America, in accordance with a joint resolution of the Congress approved April 24, 1972, as amended (36 U.S.C. 109), do hereby proclaim June 19, 2016, as Father's Day. I direct the appropriate officials of the Government to display the flag of the United States on all Government buildings on this day, and I call upon all citizens to observe this day with appropriate programs, ceremonies, and activities.

IN WITNESS WHEREOF, I have hereunto set my hand this seventeenth day of June, in the year of our Lord two thousand sixteen, and of the Independence of the United States of America the two hundred and fortieth.

[FR Doc. 2016-14868

Filed 6-21-16; 8:45 am]

Billing code 3295-F6-P